DEPARTMENT OF THE INTERIOR

National Park Service

Home of Franklin D. Roosevelt National Historic Site, Dutchess, New York; Notice of Availability of Draft Environmental Assessment and Master Plan Amendment

In accordance with the National Environmental Policy Act of 1969 and Section 106 of the Historic Preservation Act of 1966, the National Park Service (NPS) has prepared a Draft Master Plan Amendment/Environmental Assessment (EA) for the Home of Franklin D. Roosevelt NHS, located in Dutchess County, New York. The purpose of the EA is to describe plans to build a visitor and education/conference center jointly with the National Archives and Records Administration (NARA) to serve the Home of Franklin D. Roosevelt NHS and the Franklin D. Roosevelt Library. Appended to the EA is a Memorandum of Agreement (MOA), in draft, guiding historic preservation in the development of the project. The EA describes the alternatives for the proposed center. The EA will serve to update the 1977 Master Plan and Final Environmental Impact Statement for the Home of Franklin D. Roosevelt NHS with respect to visitor orientation and parking. Further, the EA provides an analysis of the environmental consequences of the alternatives. The alternatives are compared and contrasted in terms of their impacts on the cultural, historic, and natural environment.

Copies of the document are available for review at the following locations:

—Home of Franklin D. Roosevelt NHS, 4097 Albany Post Rd., Hyde Park, NY

—Franklin D. Roosevelt Library, 4079 Albany Post Rd., Hyde Park, NY

—The Hyde Park Public Library

Copies of the EA may be requested from either: Superintendent, Home of Franklin D. Roosevelt NHS, 4097 Albany Post Road, Hyde Park, New York, 12538-1997, (914) 229-9115, or Director, Franklin D. Roosevelt Library, 4079 Albany Post Rd., Hyde Park, New York, 12538-1997, (914) 229-8114.

Written comments will be accepted at either of the above addresses through June 23, 2000. The NPS and NARA will jointly hold a public meeting on June 8, 2000, at 7 p.m. to explain the alternatives. The meeting will be held at the Franklin D. Roosevelt Library, 4079 Albany Post Rd., Hyde Park, New York, and will include opportunities for public comment on the project. After analyzing the comments from the meeting and those submitted in writing during the comment period, the agencies will make a decision on the course of action.

Sarah Olson,
Superintendent.

[FR Doc. 00-13908 Filed 6-2-00; 8:45 am]

BILLING CODE 4310-70-M